DEPARTMENT OF ENERGY

Federal Energy Regulatory Commission

Notice of Filings (Wednesday, May 18, 2005)

Take notice that the Commission received the following electric rate filings.

Docket Numbers: ER02-2595-009.

Applicants: Midwest Independent Transmission System.

Description: Midwest Independent Transmission System Operator, Inc.'s proposed revisions to Schedule 16 (Financial Transmission Rights Administrative Service Cost Recovery Adder) of the Open Access Transmission & Energy Markets Tariff, ER02-2595.

Filed Date: 5/16/2005.

Accession Number: 20050518-0003.

Comment Date: 5 p.m. Eastern Time on Monday, June 6, 2005.

Docket Numbers: ER05-969-000.

Applicants: Midwest Independent Transmission System Operator.

Description: Midwest Independent Transmission System Operator, Inc. submits a Large Generator Interconnection Agreement with Northern States Power Co dba Xcel Energy—Generation Function et al. under ER05-969.

Filed Date: 5/16/2005.

Accession Number: 20050517-0145.

Comment Date: 5 p.m. Eastern Time on Monday, June 6, 2005.

Docket Numbers: ER05-971-000.

Applicants: Indiana Municipal Power Agency.

Description: Indiana Municipal Power Agency submits an initial Rate Schedule 2 and supporting cost data to establish its revenue requirement for providing cost-based Reactive Supply and Voltage Control etc., under ER05-971.

Filed Date: 5/16/2005.

Accession Number: 20050518-0010.

Comment Date: 5 p.m. Eastern Time on Monday, June 6, 2005.

Docket Numbers: ER05-972-000.

Applicants: Southwest Power Pool.

Description: Southwest Power Pool, Inc. submits a revision to Attachment AD of its Open Access Transmission Tariff to incorporate an agreement with Southwestern Power Administration under ER05-972.

Filed Date: 5/16/2005.

Accession Number: 20050518-0007.

Comment Date: 5 p.m. Eastern Time on Monday, June 6, 2005.

Docket Numbers: ER05-973-000.

Applicants: ISO New England Inc.

Description: ISO New England, Inc. submits its Capitals Projects Report, and a schedule of the unamortized costs of the ISO's funded capital expenditures for the first quarter ending 3/31/05 under ER05-973.

Filed Date: 5/16/2005.

Accession Number: 20050518-0009.

Comment Date: 5 p.m. Eastern Time on Monday, June 6, 2005.

Docket Numbers: ER05-974-000.

Applicants: FirstEnergy Service Company.

Description: Cleveland Electric Illuminating Co et al., submits revised market based rate power sales tariff for wholesale sales of electric capacity & energy, FERC Electric Tariff, Second Revised Volume 2 of FirstEnergy Operating Companies.

Filed Date: 5/16/2005.

Accession Number: 20050518-0008.

Comment Date: 5 p.m. Eastern Time on Monday, June 6, 2005.

Docket Numbers: ER96-1551-012.

Applicants: Public Service Company of New Mexico.

Description: Public Service Company of New Mexico submits First Revised Sheet 6 to FERC Electric Tariff, First Revised Volume 3 etc., under ER96-1551.

Filed Date: 5/16/2005.

Accession Number: 20050517-0287.

Comment Date: 5 p.m. Eastern Time on Monday, June 6, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding to the proceeding. Anyone filing a motion to intervene or protest must serve a copy of that document on the Applicant. In reference to filings initiating a new proceeding (ER05- -000 docket numbers), interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling line to log on and submit the intervention or protests.

Persons unable to file electronically should submit an original and 14 copies of the intervention or protest to the Federal Energy Regulatory Commission, 888 First Street, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For Assistance with any FERC Online service, please e-mail FERCOnlineSupport@ferc.gov or call (866) 208-3676 (toll free). For TTY, call (202) 502-8659.

Linda Mitry,
Deputy Secretary.

[FR Doc. E5-2596 Filed 5-23-05; 8:45 am]

BILLING CODE 6717-01-P